DEPARTMENT OF AGRICULTURE

Animal and Plant Health Inspection Service

[Docket No. APHIS-2023-0077]

Reclassification of Nuevo León, Mexico to Level V for Bovine Tuberculosis

AGENCY: Animal and Plant Health Inspection Service, USDA.

ACTION: Notice.

SUMMARY: We are advising the public that we have reclassified the region of Nuevo León, Mexico as Level V for bovine tuberculosis. Previously, the Nuevo León region was classified as Level IV for bovine tuberculosis. We took this action based on an onsite review of the bovine tuberculosis control and eradication program in Nuevo León.

DATES: The revised classification was effective December 1, 2023.

FOR FURTHER INFORMATION CONTACT: Dr. Kari Coulson, Import Risk Analyst, Regionalization Evaluation Services, Strategy and Policy, VS, APHIS, USDA, 920 Main Campus Drive, Raleigh, NC 27606; (919) 480-9876; AskRegionalization@usda.gov.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis within the United States. Within part 93, § 93.437 contains the requirements for classification of foreign regions for bovine tuberculosis and § 93.438 contains the process for requesting regional classification for bovine tuberculosis.

In accordance with § 93.437(f), the Animal and Plant Health Inspection Service (APHIS) maintains lists of all Level I, Level II, Level III, Level IV, and Level V regions for bovine tuberculosis and makes changes to the lists in accordance with § 93.438. In accordance with § 93.437(e), regions that do not have a program that meets APHIS requirements for bovine tuberculosis classification, have a prevalence of bovine tuberculosis in their domestic bovine herds equal to or greater than 0.5 percent, or are unassessed by APHIS with regard to bovine tuberculosis are considered to be Level V.

Paragraph (d) of § 93.438 provides that a region may be required to allow APHIS to conduct additional information collection activities in order for that region to maintain its classification for bovine tuberculosis. If APHIS determines that a region's classification is no longer accurate, APHIS will publish a notice in the Federal Register announcing the revised classification and setting forth the reasons for the reclassification.

In March 2023, APHIS conducted an onsite review of the bovine tuberculosis control and eradication program in Nuevo León. At the time of this review, APHIS recognized the Nuevo León region as Level IV status for bovine tuberculosis. The review determined that the region no longer has a program that meets APHIS minimum requirements for Level IV status due to deficiencies in the following areas: Veterinary control and oversight; epidemiological investigations; management of affected herds; regulatory controls on the movement of livestock; and surveillance. These findings support reclassifying Nuevo León as Level V for bovine tuberculosis.

With the publication of this notice, we are announcing the revised classification of the Nuevo León region of Mexico to Level V for bovine tuberculosis, effective December 1, 2023. This notice serves as an official record and public notification of this action.

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 4th day of January 2024.
Donna Lalli,
Acting Administrator, Animal and Plant Health Inspection Service.

[FR Doc. 2024-00265 Filed 1-8-24; 8:45 am]

BILLING CODE 3410-34-P